NATIONAL SCIENCE FOUNDATION

National Science Board; NSB Public Service Award Committee; Notice of Meeting

In accordance with the Federal Advisory Committee Act (Pub. L. 92-463, as amended), the National Science Board announces the following meeting:

Name: NSB Public Service Award Committee, 5195.

Date and Time: December 2, 2008, 1 p.m. EST (teleconference meeting).

Place: Call will originate from the National Science Foundation, 4201 Wilson Boulevard, Arlington, Virginia.

Type of Meeting: Closed.

Contact Person: Jennifer Richards, Committee Executive Secretary, National Science Board Office, National Science Foundation, 4201 Wilson Boulevard, Arlington, VA 22230. Telephone: (703) 292-7000. E-mail: jlrichar@nsf.gov.

Purpose of Meeting: To provide advice and recommendations in the selection of the NSB Public Service Award recipient.

Agenda: Discussion of candidates for the NSB Public Service Award as part of the selection process.

Reason for Meeting Closure: The candidate nominations being reviewed include information of a personal nature where public disclosure would constitute clearly unwarranted invasions of personal privacy. These matters are exempt from open meeting and public attendance under 5 U.S.C. 55b(c)(6).

Dated: November 10, 2008.
Suzanne H. Plimpton,
Reports Clearance Officer, National Science Foundation.

[FR Doc. E8-27132 Filed 11-13-08; 8:45 am]

BILLING CODE 7555-01-P